DEPARTMENT OF COMMERCE

National Oceanic and Atmospheric Administration

[RTID 0648-XC663]

North Pacific Albacore United States Stakeholder Meeting; Meeting Announcement

AGENCY: National Marine Fisheries Service (NMFS), National Oceanic and Atmospheric Administration (NOAA), Commerce.

ACTION: Notice of public meeting.

SUMMARY: NMFS announces a U.S. stakeholder meeting open to the public to discuss North Pacific albacore (NPALB) management. This meeting is intended to prepare for potential discussions at the 2023 annual meetings of the Inter-American Tropical Tuna Commission (IATTC) and Western and Central Pacific Fisheries Commission Northern Committee (WCPFC NC) on a harvest strategy for NPALB fisheries. The meeting topics are described under the SUPPLEMENTARY INFORMATION section of this notice.

DATES: The virtual meeting will be held on February 15, 2023, from 11 a.m. to 2 p.m. Hawaii Standard Time (or until business is concluded). You must complete the registration process by February 8, 2023, if you plan to attend the meeting (see ADDRESSES). Members of the public may submit written comments on meeting topics or materials to Valerie Post at valerie.post@noaa.gov by February 8, 2023, and may also provide oral comments during the virtual meeting.

ADDRESSES: If you plan to attend the meeting, which will be held by webinar, please register at https://forms.gle/HmauFTcdHQZ1MHLs8. Instructions for attending the meeting will be emailed to meeting participants before the meeting occurs. This meeting may be audio recorded for the purposes of generating notes of the meeting. As public comments will be made publically available, participants and public commenters are urged not to provide personally identifiable information (PII) at this meeting. Participation in the meeting, in person, by web conference, or by telephone constitutes consent to the audio recording.

FOR FURTHER INFORMATION CONTACT: Valerie Post, Pacific Islands Regional Office at valerie.post@noaa.gov.

SUPPLEMENTARY INFORMATION: In 2021, the International Scientific Committee on Tuna and Tuna-like Species in the North Pacific Ocean (ISC) completed a management strategy evaluation (MSE) on NPALB,¹ and the ISC Albacore Working Group hosted a meeting among U.S. and Canadian stakeholders from March 22-25, 2021, to review the results of the MSE. As a follow-up to the ISC meeting in March 2021, NMFS hosted virtual meetings on June 1, 2021 and April 5, 2022, for U.S. stakeholders to express their priorities and consider future management of NPALB. Additionally, in 2022, the Inter-American Tropical Tuna Commission (IATTC) and Western and Central Pacific Fishery Commission (WCPFC) adopted a harvest strategy for NPALB that indicated certain components (e.g., harvest control rules) would be addressed in 2023.² The forthcoming February 15 meeting, is intended to follow up on the June 2021 and April 2022 webinars, as well as to prepare for anticipated discussions at the IATTC and WCPFC Northern Committee (NC).

¹ http://isc.fra.go.jp/working_groups/albacore.html.

² https://iattc.org/GetAttachment/9d1676e8-b2af-4f40-88c1-5c3f0f8594ea/C-22-04_North-Albacore-Harvest-Strategy.pdf and harvest strategies recently adopted by the WCPFC are expected to be available here: https://www.wcpfc.int/harvest-strategy.

NPALB U.S. Stakeholder Meeting Topics

The agenda will be distributed to participants in advance of the meeting. The meeting agenda will include a discussion on a harvest strategy for NPALB that may include, but is not limited to, harvest control rules, management procedures and exceptional circumstances.

Special Accommodations

Requests for sign language interpretation or other auxiliary aids should be indicated when registering for the meeting (see ADDRESSES) by February 8, 2023.

Authority: 16 U.S.C. 951 et seq.; 16 U.S.C. 1801 et seq.; and 16 U.S.C. 6901 et seq.

Dated: January 11, 2023.
Jennifer M. Wallace,
Acting Director, Office of Sustainable Fisheries, National Marine Fisheries Service.

[FR Doc. 2023-00789 Filed 1-17-23; 8:45 am]

BILLING CODE 3510-22-P